DEPARTMENT OF STATE

[Public Notice:12428]

Specially Designated Global Terrorist Designations of Harakat Ansar Allah al-Awfiya and Haydar Muzhir Ma'lak al-Sa'idi

Acting under the authority of and in accordance with section 1(a)(ii)(A) of Executive Order 13224, as amended (“E.O. 13224” or “Order”), the Secretary of State has determined that the person known as Harakat Ansar Allah al-Awfiya (also known as Ansar Allah al Awfiya fi Souriya; Ansar Alah Alofia; Kayan al-Sadiq wa al-Ataa; Harakat al-Sadiq wa al-Ataa; God's Loyal Supporters; The Movement of the Loyal Partisans of God; Honesty and Giving Entity) is a foreign person who has committed or attempted to commit, poses a significant risk of committing, or has participated in training to commit, acts of terrorism that threaten the security of U.S. nationals or the national security, foreign policy, or economy of the United States.

Additionally, acting under the authority of and in accordance with section 1(a)(ii)(B) of E.O. 13224, the Secretary of State has determined that the person known as Haydar Muzhir Ma'lak al-Sa'idi (also known as Hayder Mezher Maalak al Saedi; Haydar al-Gharawi; Haider Ibrahim al-Gharawi; `Ali Haydar al-Gharawi) is a leader of Harakat Ansar Allah al-Awfiya, an entity whose property and interests in property are concurrently blocked pursuant to a determination by the Secretary of State pursuant to E.O. 13224.

Consistent with the determination in section 10 of E.O. 13224 that prior notice to persons determined to be subject to the Order who might have a constitutional presence in the United States would render ineffectual the blocking and other measures authorized in the Order because of the ability to transfer funds instantaneously, the Secretary of State determines that no prior notice needs to be provided to any person subject to this determination who might have a constitutional presence in the United States, because to do so would render ineffectual the measures authorized in the Order.

This determination shall be published in the Federal Register.

Dated: June 17, 2024.
Elizabeth H. Richard,
Coordinator for Counterterrorism.

[FR Doc. 2024-14941 Filed 7-8-24; 8:45 am]

BILLING CODE 4710-AD-P